DEPARTMENT OF COMMERCE

Foreign-Trade Zones Board

[B-26-2025]

Foreign-Trade Zone (FTZ) 38, Notification of Proposed Production Activity; ZF Transmissions Gray Court LLC; (Electric and Automatic Vehicle Transmissions); Gray Court and Fountain Inn, South Carolina

ZF Transmissions Gray Court LLC submitted a notification of proposed production activity to the FTZ Board (the Board) for its facilities in Gray Court and Fountain Inn, South Carolina, within Subzone 38K. The notification conforming to the requirements of the Board's regulations (15 CFR 400.22) was received on April 15, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished product(s) and material(s)/component(s) would be added to the production authority that the Board previously approved for the operation, as reflected on the Board's website.

The proposed finished products include: plug-in hybrid electric vehicle transmissions; electric rear axle drives; stators; electric motors; electric drives; intermediate shafts for electric vehicles; and, input shafts for electric vehicles (duty rate ranges from 2.5% to 6.5%).

The proposed foreign-status materials/components include: plastic components (protection caps; rectangular rings; brackets); rubber components (sealing rings; sealing sleeves; shaft seals; gaskets); steel components (mushroom head bolts; screw plugs; washers; collector rings; retaining clips; pins; compression springs; wave springs; leg springs; angular ball bearings; ball bearings; sprocket wheels; tube assemblies; gear spiders; hose couplings; output flanges; sprocket wheels; spur gears; end yokes; sleeves; catches; end yokes; hubs); aluminum components (screw plugs; alloy marking plates; tube assemblies; bell housings; plates; cylinders); plates (type; centering; intermediate; guiding); pump covers; thermal bypass valves; valve housings; taper roller bearing outer rings; shaft seals; lamination stack assembly stators; assemblies (housing; oil guide ring; cooling connection); grounding rings; hydraulically actuated parking lock pistons; sensors (positions; speed); PEEK wires; wiring harnesses; hydraulic control unit adapters; bearing brackets; connecting bars; torque converters; disc carriers; gears (idler; input; output; parking interlock; ring; planetary); oil baffles; oil catchers; oil trays; oil pans; output housings; pinions; pistons; planet carriers; shafts (quill; splined); sensor rings; support shims; sun gear shafts; transmission counting discs; guide bushes; ring gear carriers; selector shafts; guiding plates; clamping sleeves; oil tubes; bearing rings; breathers; end discs; thrust washers; stators; open differentials; clutch disks; dog clutches; shift levers; and, sensor units (duty rate ranges from duty-free to 9.0%). The request indicates that certain materials/components are subject to duties under section 1702(a)(1)(B) of the International Emergency Economic Powers Act (section 1702), section 232 of the Trade Expansion Act of 1962 (section 232), or section 301 of the Trade Act of 1974 (section 301), depending on the country of origin. The applicable section 1702, section 232 and section 301 decisions require subject merchandise to be admitted to FTZs in privileged foreign status (19 CFR 146.41).

Public comment is invited from interested parties. Submissions shall be addressed to the Board's Executive Secretary and sent to: ftz@trade.gov. The closing period for their receipt is June 2, 2025.

A copy of the notification will be available for public inspection in the “Online FTZ Information System” section of the Board's website.

For further information, contact Juanita Chen at juanita.chen@trade.gov.

Dated: April 16, 2025.
Elizabeth Whiteman,
Executive Secretary.

[FR Doc. 2025-06792 Filed 4-18-25; 8:45 am]

BILLING CODE 3510-DS-P